DEPARTMENT OF COMMERCE

Foreign-Trade Zones Board

[Order No. 1184]

Designation of New Grantee for Foreign-Trade Zone 209, Palm Beach County, Florida; Resolution and Order

Pursuant to its authority under the Foreign-Trade Zones Act of June 18, 1934, as amended (19 U.S.C. 81a-81u), and the Foreign-Trade Zones Board Regulations (15 CFR part 400), the Foreign-Trade Zones Board (the Board) adopts the following Order:

The Foreign-Trade Zones (FTZ) Board (the Board) has considered the application (filed 6/4/2001) submitted by the Port of Palm Beach District (Port District), grantee of FTZ 135, Palm Beach County, Florida, and the Palm Beach County Department of Airports, grantee of FTZ 209, Palm Beach County, Florida, mutually requesting that the grant of authority for FTZ 209 be reissued to the Port District. Upon review, the Board finding that the requirements of the FTZ Act and the Board's regulations are satisfied, and that the proposal is in the public interest, approves the request and recognizes the Port of Palm Beach District as the grantee of Foreign Trade Zone 209. The Board also redesignates FTZ 209 as part of FTZ 135.

The approval is subject to the FTZ Act and the FTZ Board's regulations, including § 400.28.

Signed at Washington, DC, this 7th day of August 2001.
Faryar Shirzad,
Assistant Secretary of Commerce for Import Administration, Alternate Chairman, Foreign-Trade Zones Board.
Dennis Puccinelli,
Executive Secretary.

[FR Doc. 01-20672 Filed 8-15-01; 8:45 am]

BILLING CODE 3510-DS-P